FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 1, 2021.

A. Federal Reserve Bank of Minneapolis (Chris P. Wangen, Assistant Vice President) 90 Hennepin Avenue, Minneapolis, Minnesota 55480-0291:

1. John R. Carlander, Faribault, Minnesota; to retain voting shares of Faribault Bancshares, Inc., and thereby indirectly retain voting shares of State Bank of Faribault, both of Faribault, Minnesota.

Additionally, Chad R. Koepke, Lakeville, Minnesota; Madelyn L. Carlander, Prior Lake, Minnesota; the Kimberly A. Koepke 1997 Trust, Kimberly A. Koepke, both of Lakeville, Minnesota, and Chad R. Koepke, as co-trustees; The Estate of Richard Carlander, John R Carlander, as personal representative, both of Faribault, Minnesota; the Matthew C. Carlander 1997 Trust, Matthew C. Carlander and John R. Carlander, as co-trustees, all of Faribault, Minnesota; and the John R. Carlander 1997 Trust, Faribault, Minnesota, Madelyn L. Carlander and John R. Carlander, as co-trustees; to join the Carlander/Koepke Family Control Group, a group acting in concert, to retain voting shares of Faribault Bancshares, Inc., and thereby indirectly retain voting shares of State Bank of Faribault.

B. Federal Reserve Bank of Kansas City (Jeffrey Imgarten, Assistant Vice President) 1 Memorial Drive, Kansas City, Missouri 64198-0001:

1. The Berry Leaf Sewell 2021 Revocable Trust, Berry L. Sewell and Adrienne M. Sewell, as co-trustees, all of Clinton, Oklahoma; to become members of the Sewell Family Control Group, a group acting in concert, to acquire voting shares of Clinton Bancshares, Inc., and thereby indirectly acquire voting shares of First Bank and Trust Company, both of Clinton, Oklahoma.

Additionally, the Frank A. Sewell IV 1998 Irrevocable Trust, Frank A. Sewell III and First Bank and Trust Company, as co-trustees, all of Clinton, Oklahoma; and Frank A. Sewell IV, Oklahoma City, Oklahoma; to become members of the Sewell Family Control Group, to retain voting shares of Clinton Bancshares, Inc., and thereby indirectly retain voting shares of First Bank and Trust Company.

2. Mark D. Keeny, as co-trustee of the Amy S. Keeny Revocable Trust, both of Wichita, Kansas; together with Amy S. Keeny, previously approved co-trustee, to acquire voting shares of King Bancshares, Inc., and thereby indirectly acquire voting shares of Citizens Bank of Kansas, both of Kingman, Kansas.

Board of Governors of the Federal Reserve System, September 13, 2021.
Michele Taylor Fennell,
Deputy Associate Secretary of the Board.

[FR Doc. 2021-20046 Filed 9-15-21; 8:45 am]

BILLING CODE P